DEPARTMENT OF THE INTERIOR

National Park Service

[NPS-WASO-NAGPRA-17467; PPWOCRADN0-PCU00RP14.R50000]

Notice of Intent To Repatriate Cultural Items: Denver Museum of Nature & Science, Denver, CO

AGENCY: National Park Service, Interior.

ACTION: Notice.

SUMMARY: The Denver Museum of Nature & Science, in consultation with the appropriate Indian tribes or Native Hawaiian organizations, has determined that the cultural items listed in this notice meet the definition of unassociated funerary objects. Lineal descendants or representatives of any Indian tribe or Native Hawaiian organization not identified in this notice that wish to claim these cultural items should submit a written request to the Denver Museum of Nature & Science. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Denver Museum of Nature & Science at the address in this notice by March 6, 2015.

ADDRESSES: Dr. Chip Colwell, Denver Museum of Nature & Science, 2001 Colorado Boulevard, Denver, CO, telephone (303) 370-6378, email chip.colwell@dmns.org.

SUPPLEMENTARY INFORMATION: Notice is here given in accordance with the Native American Graves Protection and Repatriation Act (NAGPRA), 25 U.S.C. 3005, of the intent to repatriate cultural items under the control of the Denver Museum of Nature & Science, Denver, CO, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Prior to 1951, 11 cultural items were removed from “graves” or “burial mounds” in Humboldt County, CA. Ten of these cultural items were obtained, either through collection or excavation, by George and Ethel Smith. One necklace (AC.2256) is noted to have been excavated by Dr. Ben Hathaway of the State Museum in Sacramento and obtained by George Smith through an exchange. All of the cultural items were a part of the collection at the Smith Museum, a small museum off Star Route in Orange Cove, Fresno County, CA, run by George and Ethel Smith from the mid-1930s until 1950. In 1951, Mary W.A. Crane and Francis V. Crane purchased the cultural items from the Smith Museum. In 1968, the Cranes donated the cultural items to the Denver Museum of Natural History (later renamed to the Denver Museum of Nature & Science). In 1983, the cultural items were formally accessioned into the collections. The 11 unassociated funerary objects are 4 shell bead necklaces (AC.1946, AC.1947, AC.2256, AC.2257), 3 shell objects (AC.1939, AC.2154A-B), 1 stone pestle (AC.2093), 2 stone ear plugs (AC.2133A-B; note the location of AC.2133B is currently unknown), and 1 lot of shell beads (AC.2258).

Museum records indicate that all of these cultural items were excavated from Native American graves or burial mounds located within Humboldt County, CA. Based on archival documents and expert opinion, it is reasonable to conclude that they were likely removed from a burial mound in Humboldt Bay known as HUM-67 and Tuluwat, located on Indian Island (formerly Gunther Island)—a place closely associated with Wiyot history. Stylistic attributes of material culture found at Tuluwat indicate that the site was occupied after A.D. 900. Multiple lines of evidence suggest the Wiyot culture has developed in-situ within Humboldt County over the last thousand years or more. Given this long term development the shared group identity is evident. The identifiable earlier group is the Wiyot and present-day tribes are those with Wiyot members: The Bear River Band of Rohnerville Rancheria, California, Blue Lake Rancheria, California, and the Wiyot Tribe, California (previously listed as the Table Bluff Reservation-Wiyot Tribe).

Determinations Made by the Denver Museum of Nature & Science

Officials of the Denver Museum of Nature & Science have determined that:

• Pursuant to 25 U.S.C. 3001(3)(B), the 11 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Bear River Band of Rohnerville Rancheria, California, Blue Lake Rancheria, California, and the Wiyot Tribe, California (previously listed as the Table Bluff Reservation-Wiyot Tribe).

Additional Requestors and Disposition

Lineal descendants or representatives of any Indian tribe or Native Hawaiian organization not identified in this notice that wish to claim these cultural items should submit a written request with information in support of the claim to Dr. Chip Colwell, Denver Museum of Nature & Science, 2001 Colorado Boulevard, Denver, CO, telephone (303) 370-6378, email chip.colwell@dmns.org, by March 6, 2015. After that date, if no additional claimants have come forward, transfer of control of the unassociated funerary objects to Bear River Band of Rohnerville Rancheria, California, Blue Lake Rancheria, California, and the Wiyot Tribe, California (previously listed as the Table Bluff Reservation-Wiyot Tribe) may proceed. The Wiyot Tribe, California (previously listed as the Table Bluff Reservation-Wiyot Tribe) has made a formal claim for the cultural items, which has been supported by Bear River Band of Rohnerville Rancheria, California and Blue Lake Rancheria, California.

The Denver Museum of Nature & Science is responsible for notifying the Bear River Band of Rohnerville Rancheria, California, Blue Lake Rancheria, California, and the Wiyot Tribe, California (previously listed as the Table Bluff Reservation-Wiyot Tribe) that this notice has been published.

Dated: January 9, 2015.
Melanie O'Brien,
Acting Manager, National NAGPRA Program.

[FR Doc. 2015-02188 Filed 2-3-15; 8:45 am]

BILLING CODE 4312-50-P